DEPARTMENT OF THE INTERIOR

Bureau of Land Management

[CO-820-1430-EQ]

Notice of Seasonal Closure of Public Lands, San Juan County, CO

AGENCY: Bureau of Land Management, Interior.

ACTION: Notice of seasonal closure.

SUMMARY: The San Juan Public Lands Center, Bureau of Land Management (BLM) is giving notice that public lands near the Silverton Ski Area as described below, will be seasonally closed to all entry, from November 1 through the end of the seasonal ski area operation, but not later than June 15 of each year. This closure is necessary to protect skiers within the ski area boundaries and the general public during periods of avalanche control work as authorized under BLM permit/lease.

The lands affected by this closure are described as a portion of those federal lands administered by the Bureau of Land Management within sections 20, 21, 27, 28, 29, 30, 31, 32, 33, 34 of protracted Township 42 N., R.7 W., New Mexico Principal Meridian. These lands are further described as: beginning at a point 0.5 mile north of Cascade Gulch and extending northeasterly along the east side of Colorado State highway #110A to the junction of San Juan County #52, thence southeasterly along the Middle Fork of Cement Creek to the divide between the Middle Fork Cement Creek and the South Fork of the Animas River, thence south along the ridge line forming the Colorado Basin to Storm Peak, thence west along a descending ridge line to the tree line between Grassy Gulch and Cascade Gulch, thence, northwest to the point of the beginning.

The BLM will post closure signs in this area. You may obtain maps of the closure area and information from the San Juan Public Lands Center in Durango, CO.

Discussion of the Rule: Under the authority of 43 CFR 9268.3(d)(1)(I) and 43 CFR 8364.1(a), the BLM will enforce the following rule on public lands within the closed area as described above:

You must not enter the closed area between November 1st through the end of the seasonal ski area operation, or June 15 of each year whichever is the last date of seasonal operation.

Exemptions: Persons who are exempt from these rules include any Federal, State, or local officer or employee in the scope of their duties; Members of any organized rescue or fire-fighting force in performance of an official duty; and any person authorized in writing by the Bureau of Land Management.

Penalties: The authorities for this closure are section 303(a) of the Federal Land Policy and Management Act of 1976 (43 U.S.C. 1733(a), 43 CFR 9268.3(a)(4) and 43 CFR 8360.0-7. Any person who violates this closure may be tried before a United States Magistrate and fined no more than $1,000 or imprisoned for no more than 12 months, or both. Such violations may also be subject to the enhanced fines provided for by 18 U.S.C. 3571.

FOR FURTHER INFORMATION CONTACT: Charlie Higby, BLM Realty Specialist, (970) 385-1374; San Juan Public Lands Center, 15 Burnett Court, Durango, Colorado 81301.

Pauline E. Ellis,
Field Office Manager, Columbine Field Office.

[FR Doc. E7-10166 Filed 5-25-07; 8:45 am]

BILLING CODE 4310-JB-P